DEPARTMENT OF HEALTH AND HUMAN SERVICES

National Institutes of Health

Proposed Collection; Comment Request; NEXT Generation Health Study

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection

Title: NEXT Generation Health Study.

Type of Information Collection Request: New.

Need and Use of Information Collection:

The goal of this research is to obtain data on adolescent health and health behaviors annually for four years beginning in the 2009-2010 school year from a national probability sample of adolescents. This information will enable the improvement of health services and programs for youth. The study will provide needed information about the health of U.S. adolescents.

The study will collect information on adolescent health behaviors and social and environmental contexts for these behaviors annually for four years beginning in the 2009-2010 school year. Self-report of health status, health behaviors, and health attitudes will be collected by in-school and online surveys. Anthropomorphic data, genetic information, and neighborhood characteristics will be gathered on all participants as well. The study will also incorporate a School Administrator Survey and other data files to obtain related information on school-level health programs and community-level contextual data. A representative subsample of overweight and normal weight adolescents will be identified and additional data on behavioral risk factors and biological markers and risk factors will be gathered on these adolescents.

Table 1—Annual Burden for Affected Public: School-Age Children, Parents and School Administrators
Type of respondents | Estimated number of respondents | Estimated number of responses per respondent | Average burden hours per response | Estimated total annual burden hours requested
Adolescents | 2,700 | 1 | 0.75 | 11, 004
Adolescents with additional assessments | 550 | 1 | 2.5 | 1,375
Parents | 550 | 1 | 0.17 | 94
School Administrators | 80 | 1 | 0.33 | 26

The estimated annualized cost to respondents is $7,453 (Table 2). These costs were estimated for the 2009/2010 survey year only, not the entire duration of the project; annualized over the entire duration of the project, these costs would be reduced to $2,439. These estimates were calculated using 2008 Department of Labor figures for wages of principals in high schools (grades 9 and 10) and of average wage and salaried employees, and assuming an annual increase of 3.75%, 50-week contract, and 40-hour week.

Table 2—Annual Cost to Respondents—2009/2010 Survey Year Only
Type of respondents | Estimated total annual burden hours requested | Estimated annual earnings during survey | Average hourly earnings (with rounding) | Estimated cost during survey year
Adolescents | 11,004 | $0.00 | $0.00 | $0.00
Adolescents with additional assessments | 1,375 | 0.00 | 0.00 | 0.00
Parents | 94 | 42,270 | 21.93 | 2,061
School Administrators | 26 | 84,913 | 42.46 | 5,392

There are no Capital Costs to report. There are no Operating or Maintenance Costs to report.

No direct costs to the respondents themselves or to participating schools are anticipated.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Ronald Iannotti, Prevention Research Branch, Division of Epidemiology, Statistics, and Prevention Research, Eunice Kennedy Shriver National Institute of Child Health and Human Development, Building 6100, 7B05, 9000 Rockville Pike, Bethesda, Maryland 20892-7510, or call non-toll free number 301-435-6951 or E-mail your request, including your address to ri25j@nih.gov.

Comments Due Date: Comments regarding this information collection are best assured of having their full effect if received within 60 days of the date of this publication.

Dated: July 9, 2009.
Sarah L. Glavin,
Project Clearance Liaison, NICHD, National Institutes of Health.

[FR Doc. E9-17026 Filed 7-16-09; 8:45 am]

BILLING CODE 4140-01-P